DEPARTMENT OF DEFENSE

Office of the Secretary

Notice of Intent To Return Human Remains: National Museum of Health and Medicine, Defense Health Agency, Silver Spring, MD

AGENCY: Office of the Secretary, DoD.

ACTION: Notice.

SUMMARY: The National Museum of Health and Medicine (NMHM), in consultation with appropriate descendant and memorial organizations, shall release the human remains of an unidentified child's skull, aged 6-10 years, for burial alongside other victim remains of the 1857 Mountain Meadows Massacre, interred by the U.S. Army in 1859. Next-of-kin, or representatives of any organizations who believe they have a legitimate claim to the remains of victims of the 1857 Mountain Meadows Massacre, who wish to assert a legitimate claim for these remains or otherwise direct their disposition should submit a written request to the NMHM. If no additional claimants come forward, transfer of possession of the human remains to the aforementioned descendant and memorial organizations stated in this notice may proceed.

DATES: Next-of-kin or representatives of any relevant organizations that wish to submit a legitimate claim for these remains or otherwise direct disposition should submit a written request, with information in support of their claim, to the NMHM at the address stated in the ADDRESSES section by September 2, 2016.

ADDRESSES: Brian Spatola, National Museum of Health and Medicine, 2460 Linden Lane #2500, Silver Spring, MD 20910. Telephone: 301-319-3353; Email: brian.f.spatola.civ@mail.mil.

SUPPLEMENTARY INFORMATION: Statutory Authority for the intended actions include: Public Law 103-337, div. A, title X, § 1067, Oct. 5, 1994, 108 Stat. 2851, as amended by Pub. L. 105-78, title VII, § 702, Nov. 13, 1997, 111 Stat. 1524 (reprinted in the notes to 10 U.S.C. 176) as statutory authority for the NMHM; and DoDD 5136.13, as the Director, Defense Health Agency's general authority over matters concerning the Museum as a component of the Defense Health Agency.

History and Description of Human Remains: The human remains consist of the cranium of a child with an estimated age of 6-10 years, based on dental development. The cranium shows evidence of a perforating gunshot wound. In 1857, members of the Church of Jesus Christ of Latter-day Saints (allegedly in coordination with Native American allies) murdered approximately 120 members of a wagon train travelling from Arkansas to California in an event known historically as the Mountain Meadows Massacre. The victims included men, women, and children. In 1859, the U.S. Army travelled to Utah to investigate the incident, bury the dead, and return the surviving children to Arkansas. At this time, U.S. Army Officers removed a child's skull from the massacre site. In 1864, U.S. Army Surgeon, B.A. Clements, forwarded a child's skull from the Mountain Meadows Massacre to the Army Medical Museum, now the NMHM. The specimen was forwarded in accordance with the Surgeon General's order for officers to “collect and to forward . . . all specimens of morbid anatomy, surgical or medical which may be regarded as valuable . . . and other such matters as may prove of interest in the study of military medicine or surgery.” Clements was stationed in the region where the massacre occurred during the time of the Army's 1859 activity. It is believed the skull was passed on to him by others who had participated in the 1859 investigation. In 2009, the NMHM began receiving requests with conflicting perspectives from multiple parties claiming the child's skull for burial and scientific testing. The parties consulting with the museum include the Mountain Meadows Massacre Descendants (MMMD), the Mountain Meadows Monument Foundation (MMMF), the Mountain Meadows Association (MMA), and Ms. Catherine Baker of North Carolina. The NMHM engaged all prior, interested parties and requested all such parties enter into a joint agreement documenting their consensus on the disposition of the remains. The NMHM has received confirmation of consensus from a majority of all such parties, advocating for the human remains to be buried alongside other victims of the 1857 Mountain Meadows Massacre in Utah.

Dated: July 29, 2016.
Aaron Siegel,
Alternate OSD Federal Register Liaison Officer, Department of Defense.

[FR Doc. 2016-18363 Filed 8-2-16; 8:45 am]

BILLING CODE 5001-06-P